FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 19, 2019.

A. Federal Reserve Bank of Kansas City (Dennis Denney, Assistant Vice President) 1 Memorial Drive, Kansas City, Missouri 64198-0001:

1. F. Walter Riebenack, Evanston, Wyoming, to retain individually, voting shares of UCSB Financial Corporation, and thereby indirectly retain shares of Uinta Bank, both of Mountain View, Wyoming, and for approval to become a member of the Riebenack/Gilbert Control Group that owns voting shares of UCSB Financial Corporation. In addition, Keith L. Gilbert, Fort Wayne, Indiana, The Cyprian Fund, LLC of Mountain View, Wyoming, the estate of Barbara A. Gilbert, Fort Wayne, Indiana, Brian K. Gilbert and Andrea R. Gilbert, Naperville, Illinois, Fred L. Gilbert and Cynthia D. Gilbert, Singapore, James Gilbert and Christina Gilbert, Akron, Ohio, Terry Gilbert, Uniondale, Indiana, Andrea S. Worsham, Altamonte Springs, Florida, and Lindsay Worsham, Altamonte Springs, Florida, have applied for approval as members of the Riebenack/Gilbert Control Group to retain shares of UCSB Financial Corporation.

Board of Governors of the Federal Reserve System, January 30, 2019.
Yao-Chin Chao,
Assistant Secretary of the Board.

[FR Doc. 2019-00920 Filed 2-4-19; 8:45 am]

BILLING CODE P